DEPARTMENT OF THE INTERIOR

Bureau of Land Management

[NM091-9941-EK-HE931]

Extension of Approved Information Collection, OMB Control Number 1004-0180

AGENCY: Bureau of Land Management, Interior.

ACTION: Notice and request for comments.

SUMMARY: In accordance with the Paperwork Reduction Act of 1995, the Bureau of Land Management (BLM) requests the Office of Management and Budget (OMB) to extend an existing approval to collect information from owners and operators of helium-bearing natural gas wells and transmission lines to evaluate the helium resources. BLM uses Form 3100-12, Gas Well Data Survey of Helium-Bearing Natural Gas, to collect gas samples from natural gas wells. This information allows BLM to determine and evaluate the extent of any helium resources that may exist in natural gas.

DATES: You must submit your comments to BLM at the address below on or before August 21, 2006. BLM will not necessarily consider any comments received after the above date.

ADDRESSES: You may mail comments to: Bureau of Land Management, (WO-630), Eastern States Office, 7450 Boston Blvd., Springfield, Virginia 22153.

You may send comments via Internet to: comments_washington@blm.gov. Please include “ATTN: 1004-0180” and your name and return address in your Internet message.

You may deliver comments to the Bureau of Land Management, Administrative Records, Room 401, 1620 L Street, NW., Washington, DC.

All comments will be available for public review at the L Street address during regular business hours (7:45 a.m. to 4:15 p.m.), Monday through Friday.

FOR FURTHER INFORMATION CONTACT: You may contact Connie H. Neely, on (806) 356-1027 (Commercial or FTS). Persons who use a telecommunications device for the deaf (TDD) may call the Federal Information Relay Service at 1-800-877-8330, 24 hours a day, seven days a week, to contact Ms. Neely.

SUPPLEMENTARY INFORMATION: 5 CFR 1320.12(a) requires BLM to provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the burden of the collection of information on those who are to respond, including the use of appropriate automated, electronic, mechanical, or other technological collection techniques or other forms of information technology.

Owners and operators of helium-bearing natural gas wells and transmission lines must submit Form 3100-12, Gas Well Data Survey of Helium-Bearing Natural Gas, to provide for gas sampling and analysis we use to locate helium occurrences in natural gases. BLM carries out this program under 74 Stat. 920, Public Law 104-273, Helium Privatization Act of 1996. The knowledge of helium occurrences is part of the Government's conservation program.

We request the following information on Form 3100-12;

(A) State and County: The geographical location is necessary to identify the source of the gas sample. After the gas source is identified, BLM uses this information to evaluate the potential for supplying helium.

(B) Field, Well Name, and API Number: This information identifies the source of the gas sample. Each producing state assigns official field designations to producing areas. BLM uses this information to determine location and size of helium reserves. The well name is registered with the state and identifies the specific well from where the gas sample came. This information provides both the owner and BLM a reference so that any further questions that arise concerning the gas sample can be specifically referred to a certain well. Each well in the United States is assigned a unique number based on guidelines from the American Petroleum Institute (API). This number is essential to assure that wells with similar names are not confused.

(C) Location and Owner: We need the legal description of the location of the well. This information will help to locate the well on maps of the area and other features, both surface and subsurface, and to determine helium reserves. The owner's name and address are necessary to report analysis results and for further correspondence.

(D) Sampled By: This information provides the name of the person taking the gas sample and allows verification of well and sampling conditions if any questions arise concerning the gas sample.

(E) Date Completed and Date Sampled: This information refers to the date the well was ready for production. This information is necessary to determine if this is an older producing well or a recently completed well. An older producing well will have production and pressure records available within the company and at state agencies that are of great value to evaluate the helium reserves. The date sampled is important because we search the records to determine under what conditions the gas sample was taken if any questions arise concerning the gas sample.

(F) Elevation: This information refers to the elevation of the Kelly Bushing or ground level elevation on the drilling rig. This information is necessary because most wireline logs, mud logs, and other references to the depth of the well are made with the Kelly Bushing data. The elevation will assist to classify the geologic horizons penetrated by the well, and give some true depth in relation to sea level data.

(H) Name of Producing Formation and Geological Age of Producing Formation: This information is necessary to classify the subsurface source of the gas sample and to consider other producing zones in the field or area.

(I) Depth (Feet) of Producing Formation and Thickness (Feet): This information is necessary to consider the producing zones with those in other fields or wells. Thickness of the producing zone is an essential factor to determine the volume of helium presently in a reservoir.

(J) Shut-In Wellhead Pressure and Open Flow: This information is necessary to determine the reserves of helium and the adequacy of a well to produce sufficient process gas to a helium extraction plant. Shut-in wellhead pressure is essential to estimate the helium reserves. Open flow is the capacity of the well to produce gas. BLM uses this information to determine if the process gas volumes are available.

Without this information, the location and development of helium reserves could not be done, long-range helium production and conservation could not be carried out, and an assured supply of helium to the Federal Government would not be available.

Based on our experience administering this program, we estimate the public reporting burden is 15 minutes per response to supply the required information. The respondents are owners and operators of helium-bearing natural gas wells and transmission lines. The frequency of response is annually. We estimate 200 responses per year and a total annual burden of 50 hours.

BLM will summarize all responses to this notice and include them in the request for OMB approval. All comments will become a matter of public record.

Dated: June 9, 2006.
Ted R. Hudson,
Bureau of Land Management, Information Collection Clearance Officer.

[FR Doc. 06-5552 Filed 6-20-06; 8:45 am]

BILLING CODE 4310-84-M